DEPARTMENT OF DEFENSE

Office of the Secretary

Notice of Open Meeting

AGENCY: Office of the Assistant Secretary of Defense (Health Affairs); DoD.

SUMMARY: In accordance with section 10(a)(2) of Public Law 92-463, The Federal Advisory Committee Act, announcement is made of the following meeting:

Name of Committee: DoD Task Force on Mental Health, a Subcommittee of the Defense Health Board.

Dates: February 26, 2007 (Morning—Open Session), February 27, 2007 (Afternoon—Open Session).

Times: 0800-1215 hours (26 February) 1530-1730 hours (27 February).

Location: DoubleTree Hotel, 300 Army Navy Drive, Arlington, VA 22202.

Agenda: The purpose of the meeting is to obtain, review, and evaluate information related to the Mental Health Task Force's congressionally-directed task of assessing the efficacy of mental health services provided to members of the Armed Forces by the Department of Defense. The Task Force members will receive briefings on topics related to mental health concerns among military service members and mental health care delivery. The Task Force will hold a “Town Hall Meeting” session to hear concerns from the Washington, DC Metro Area Active Duty Military, National Guard and Reserve, and Veterans communities. The Task Force will also meet in administrative session to consider administrative matters.

FOR FURTHER INFORMATION CONTACT: Colonel Roger Gibson, Executive Secretary, Defense Health Board, Skyline One, 5205 Leesburg Pike, Suite 810, Falls Church, VA 22041, (703) 681-3279, ext. 123.

SUPPLEMENTARY INFORMATION: The morning session on February 26, and the afternoon session on February 27, 2007 will be open to the public in accordance with Section 552b(b) of Title 5, U.S.C., specifically subparagraph (1) thereof and Title 5, U.S.C., appendix 1, subsection 10(d). Open sessions of the meeting will be limited by space accommodations. Any interested person may attend, and submit matters to the Board's point of contact for consideration by the Board. All comments must be received no later than 5 business days prior to the Board meeting.

Dated: January 30, 2007.
C.R. Choate,
Alternate OSD Federal Register Liaison Officer, Department of Defense.

[FR Doc. 07-500 Filed 2-5-07; 8:45 am]

BILLING CODE 5001-06-M